DEPARTMENT OF COMMERCE

International Trade Administration

[A-570-892]

Notice of Correction to the Final Determination of Sales at Less Than Fair Value: Carbazole Violet Pigment 23 From the People's Republic of China

AGENCY: Import Administration, International Trade Administration, Department of Commerce.

ACTION: Correction to final determination of sales at less than fair value.

EFFECTIVE DATE: November 26, 2004.

FOR FURTHER INFORMATION CONTACT: Tisha Loeper-Viti or Marin Weaver at (202) 482-7425 or (202) 482-2336, respectively; AD/CVD Operations, Office 8, China/NME Unit, Import Administration, Room 1870, International Trade Administration, U.S. Department of Commerce, 14th Street and Constitution Avenue, NW., Washington DC 20230.

Background: On November 17, 2004, the Department of Commerce (the Department) published in the Federal Register the final determination of sales at less than fair value of carbazole violet pigment 23 from the People's Republic of China (PRC). See Carbozole Violet Pigment 23 from the People's Republic of China: Final Determination of Sales at Less Than Fair Value, 69 FR 67304 (November 17, 2004). The Department has discovered a typographical error in the molecular formula of the Scope of Investigation section.

We now correct the final determination of sales at less than fair value of carbazole violet pigment 23 from the PRC as noted above. As a result of this correction, the molecular formula should read C34H22Cl2N4O2.

This amended determination is issued and published in accordance with sections 751 and 777(i)(1) of the Tariff Act of 1930, as amended.

Dated: November 19, 2004.
Joseph A. Spetrini,
Acting Assistant Secretary for Import Administration.

[FR Doc. E4-3342 Filed 11-24-04; 8:45 am]

BILLING CODE 3510-DS-P